DEPARTMENT OF EDUCATION

[Docket No.: ED-2020-SCC-0121]

Agency Information Collection Activities; Submission to the Office of Management and Budget for Review and Approval; Comment Request; International Study of Adult Skills and Learning (ISASL) [Program for the International Assessment of Adult Competencies (PIAAC) Cycle II]

AGENCY: National Center for Education Statistics (NCES), Department of Education (ED).

ACTION: Notice.

SUMMARY: In accordance with the Paperwork Reduction Act of 1995, ED is proposing change to an existing information collection request.

DATES: Interested persons are invited to submit comments on or before August 27, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please call Carrie Clarady, 202-245-6347 or send an email to NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: International Study of Adult Skills and Learning (ISASL) [Program for the International Assessment of Adult Competencies (PIAAC) Cycle II].

OMB Control Number: 1850-0870.

Type of Review: Change to an existing information collection.

Respondents/Affected Public: Individuals or households.

Total Estimated Number of Annual Responses: 5,611.

Total Estimated Number of Annual Burden Hours: 1,258.

Abstract: The Program for the International Assessment of Adult Competencies (PIAAC) is a cyclical, large-scale study of adult skills and life experiences focusing on education and employment. PIAAC is an international study designed to assess adults in different countries over a broad range of abilities, from simple reading to complex problem-solving skills, and to collect information on individuals' skill use and background. PIAAC is coordinated by the Organization for Economic Cooperation and Development (OECD) and developed by participating countries with the support of the OECD. In the United States, the National Center for Education Statistics (NCES), within the U.S. Department of Education (ED) conducts PIAAC. The U.S. participated in the PIAAC Main Study data collection in 2012 and conducted national supplement data collections in 2014 and 2017. All three of these collections are part of PIAAC Cycle I. A new PIAAC cycle is to be conducted every 10 years, and PIAAC Cycle II Main Study data collection will be conducted from August 2021 through March 2022. In preparation for the main study collection, PIAAC Cycle II will begin with a Field Test in 2020, in which 34 countries are expected to participate with the primary goal of evaluating newly developed assessment and questionnaire items and to test the PIAAC 2022 planned operations. PIAAC 2022 defines four core competency domains of adult cognitive skills that are seen as key to facilitating the social and economic participation of adults in advanced economies: (1) Literacy, (2) numeracy, (3) reading and numeracy components, and (4) adaptive problem solving. The U.S. will administer all four domains of the PIAAC 2022 assessment to a nationally representative sample of adults, along with a background questionnaire with questions about their education background, work history, the skills they use on the job and at home, their civic engagement, and sense of their health and well-being. The results are used to compare the skills capacities of the workforce-aged adults in participating countries, and to learn more about relationships between educational background, employment, and other outcomes. In addition, in PIAAC 2022, a set of financial literacy questions will be included in the background questionnaire. As in Cycle I, a user-friendly name for PIAAC Cycle II was created—the International Study of Adult Skills and Learning (ISASL)—to represent the program to the public, and will be used on all public-facing materials and reports. As this international program is well-known within the federal and education research communities, we continue to use “PIAAC” in all internal and OMB clearance materials and communications, and use the “PIAAC” name throughout this submission; however all recruitment and communication materials refer to the study as ISASL. The request to conduct the PIAAC Cycle II Field Test in April-June 2020 was approved by OMB in December 2019 (OMB# 1850-0870 v.7-8). This request updates Part A of the package to reflect a one-year delay in all data collections, due to the global coronavirus pandemic.

Dated: July 22, 2020.
Stephanie Valentine,
PRA Coordinator, Strategic Collections and Clearance, Governance and Strategy Division, Office of Chief Data Officer, Office of Planning, Evaluation and Policy Development.

[FR Doc. 2020-16268 Filed 7-27-20; 8:45 am]

BILLING CODE 4000-01-P